DEPARTMENT OF TRANSPORTATION

Federal Highway Administration

[Docket No. FHWA-2016-0012]

Emergency Deletion of National Network Route—Kentucky Route 151

AGENCY: Federal Highway Administration (FHWA), Department of Transportation (DOT).

ACTION: Notice; request for comments.

SUMMARY: This notice requests comments on the emergency deletion of Kentucky Route 151 (KY 151) (from US 127 north of Lawrenceburg, KY to Interstate 64 (I-64) Exit 48) from the National Network (NN) based on safety considerations related to numerous truck accidents and route geometric deficiencies. On April 26, 2016, FHWA approved the emergency deletion of KY 151 (from U.S. 127 north of Lawrenceburg to I-64 Exit 48), from the NN based on safety considerations. The deletion is not final and FHWA seeks public comments and information to assist in assessing its impacts.

DATES: Comments must be received on or before July 15, 2016.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Avenue SE., W12-140, Washington, DC 20590-0001.

• Hand Delivery: West Building Ground Floor, Room W12-140, 1200 New Jersey Avenue SE., between 9 a.m. and 5 p.m., e.t., Monday through Friday, except Federal holidays. The telephone number is 202-366-9329.

• Instructions: You must include the agency name and docket number at the beginning of your comments. All comments received will be posted without change to http://www.regulations.gov, including any personal information provided.

FOR FURTHER INFORMATION CONTACT: For questions about the deletion from the NN, contact Crystal Jones, FHWA Office of Freight Management and Operations, telephone at 202-366-2976, or via email at Crystal.Jones@dot.gov. For legal questions, please contact William Winne, FHWA Office of the Chief Counsel, telephone at 202-366-1397, or via email at William.Winne@dot.gov. Business hours for the FHWA are from 8:00 a.m. to 4:30 p.m., e.t., Monday through Friday, except Federal holidays.

SUPPLEMENTARY INFORMATION:

Electronic Access

You may retrieve a copy of the notice through the Federal eRulemaking portal at http://www.regulations.gov. The Web site is available 24 hours each day, 365 days each year. Electronic submission and retrieval help and guidelines are available under the help section of the Web site. An electronic copy of this document may also be downloaded from Office of the Federal Register's Web site at http://www.archives.gov/federal_register and the Government Printing Office's Web page at http://www.gpoaccess.gov.

Background

The NN was authorized by the Surface Transportation Assistance Act of 1982 (STAA) (Pub. L. 97-424). Title 23 CFR 658 requires States to allow conventional large truck combinations on designated roadways that link principal cities and densely developed areas of the States. Conventional large truck combinations are tractors with one semitrailer of 48 feet in length or one 28-foot semitrailer and one 28-foot trailer, both of which can be up to 102 inches wide.

Even though the geography of interstate commerce has changed significantly with the growth of smaller communities into principle cities and the emergence of new densely developed areas, the NN has not changed significantly in a quarter century. The definition of conventional large truck combinations has also not changed, although 53-feet instead of 48-feet is the prevalent length of a single trailer and is allowed in most States.

The STAA acknowledged that the NN might need to be changed over time. Accordingly, FHWA developed regulations on the procedures for additions, deletions, and use restrictions. Title 23 CFR 658.11(e) provided for emergency deletions of any route from the NN for safety considerations. Emergency deletions are not considered final, and must be published in the Federal Register for notice and comment.

Conventional large truck combinations often use KY 151 as a shortcut from I-64 Exit 48 to connect with four-lane divided U.S. 127 north of Lawrenceburg, KY. A recent series of large truck crashes have raised concerns on the appropriateness of its designation as an NN route. The predominant type of crash involves trucks veering off the roadway where the roadway and shoulders are too narrow for conventional combination large trucks. The route has experienced an increasingly high rate of single vehicle truck accidents. It has marginal lane widths (11 to 12 foot) and shoulder widths (1 to 2 foot) and includes sections with horizontal curvature that negatively impact sight distances and safe operation of combination truck and bus vehicle traffic. The current traffic volume on the nearby alternate route (U.S. 127) is approximately 18,000 average annual daily traffic (AADT). Based on traffic data available, FHWA expects that truck traffic on U.S. 127 will increase from 1,260 to 1,694 AADT per day, that is, approximately 434 trucks per day. The percentage of trucks on U.S. 127 would increase from about 7 to 9 percent trucks.

Vehicle collision data gathered from the Kentucky State Police show that KY 151 experienced single vehicle accidents involving large trucks and buses six times more often than U.S. 127 (the alternate route), during the same time period. Further analysis shows that half of the accidents on KY 151 are “Ran Off Roadway (One Vehicle With/Earth Embankment/Ditch)” collisions, while U.S. 127 did not experience a single accident of this type during the same reporting period (2010-2015). The U.S. 127 is a four-lane divided partially controlled access highway with 12-foot lanes, 10-foot paved outside shoulders, 4-foot paved inside shoulders, and a 40-foot median.

Purpose of the Notice

The purpose of this notice is to request comments on the deletion of KY 151 (from U.S. 127 north of Lawrenceburg to I-64 Exit 48) from the NN. To ensure that the NN remains substantially intact, FHWA retains the authority to rule upon all requested additions to, and deletions from, the NN. This authority includes emergency deletions based on safety considerations (23 CFR 658.11(e)). On April 26, 2016, FHWA approved the emergency deletion of KY 151 from I-64 to U.S. 127 (near Lawrenceburg, KY) from the NN based on safety considerations. This deletion is not final and FHWA seeks public comments to assist in assessing its impacts.

Comments are requested on the following matters and any others relating to the deletion of the route from the NN:

• Will the deletion of the route negatively impact the flow of interstate commerce?

• Are there safety issues with the route, particularly as it relates to operation of conventional combination large trucks that are generally tractors with one semitrailer up to 48 feet in length, or one 28-foot semitrailer and one 28-foot trailer, and up to 102 inches wide?

• What is the safety record of the route, including current or anticipated safety problems?

• Is the route experiencing above normal accident rates and/or accident severities?

• Is there information available that indicates that the accident problems on the route are aggravated by larger conventional trucks?

• What are the geometric, structural, or traffic operations features that might preclude safe and efficient operation of large conventional trucks (e.g., lane widths, sight distance, severity and length of grades, horizontal curvature, shoulder width, narrow bridges, bridge clearances and load limits, traffic volumes and vehicle mix, intersection geometrics, and vulnerability of roadside property)? (Pictures or illustrations would be helpful.)

• Are there operational restrictions that might be implemented in lieu of deletion of the route from the NN?

• Are there locations on the route that large trucks require access to such as terminals and facilities for food, fuel, repairs, and rest?

• Is U.S. 127 a reasonable alternate route?

• Are there safety concerns with the use of U.S. 127 as alternate route. (Pictures or illustrations would be helpful.)

Authority: 49 U.S.C. 31111-31114; Sections 411 and 412 of the Surface Transportation Assistance Act of 1982 (Pub. L. 97-424).

Issued on: June 1, 2016.
Gregory G. Nadeau,
Administrator, Federal Highway Administration.

[FR Doc. 2016-14129 Filed 6-14-16; 8:45 am]

BILLING CODE 4910-22-P